FEDERAL EMERGENCY MANAGEMENT AGENCY

Agency Information Collection Activities: Submission for OMB Review; Comment Request

ACTION: Notice and request for comments.

SUMMARY: The Federal Emergency Management Agency is submitting a request for review and approved of a collection of information in use without OMB approval. The Collection of information concerns FEMA's collecting information about the financial state of affairs and the housing plans of disaster victims. FEMA needs the information in order to effectively evaluate an applicant's need for mortgage and rental assistance provided under the Mortgage and Rental Assistance Program.

The request is submitted under the emergency processing procedures in Office of Management and Budget (OMB) regulation 5 CFR 1320.13. FEMA is requesting that this collection of information be approved by August 12, 2002. The approval will authorize FEMA to use the collection through February 28, 2003.

FEMA plans to follow this emergency request with a request for a 3-year approval. The request will be processed under OMB's normal clearance procedures in accordance with the provisions of OMB regulation 5 CFR 1320.10. To help us with the timely processing of the emergency and normal clearance submissions to OMB, FEMA invites the general public to comment on the collection of information. This notice and request for comments is in accordance with the provisions of the Paperwork Reduction Act of 1995 (44 U.S.C. 3506(c)(2)(A)).

SUPPLEMENTARY INFORMATION: The Mortgage and Rental Assistance Program is authorized by section 408(b) of the Robert T. Stafford Disaster Relief and Emergency Assistance Act, as amended. The program was established to allow the Federal government to assist disaster victims who, as a result of financial hardship caused by a major disaster, are unable to continue paying their mortgage or rent and are in jeopardy of being evicted or foreclosed. In order for FEMA to comply with the statutory criterion of financial hardship for the Mortgage and Rental Assistance Program, we must collect financial information on the disaster assistance applicant to determine the level of financial loss and if the applicant qualifies as a hardship.

Collection of Information:

Title: Mortgage and Rental Assistance Program.

Type of Information Collection: Existing collection in use without OMB approval.

Forms: MRA Financial Certification; MRA Certification of Household Income; MRA Request for Additional Assistance; MRA Notice of Delinquency.

Abstract: Individuals requesting mortgage and rental assistance, will be required to provide, in writing, information about their financial state of affairs and their housing plans to that FEMA can effectively evaluate their need for mortgage and rental assistance. The requested information from the applicant is not available from any other source. The information collected has limited use and is only applicable to FEMA's Mortgage and Rental Assistance Program. The information collected from the applicant will be used exclusively for reviewing the financial loss of the applicant and making eligibility decisions. A FEMA disaster housing officer will review the information submitted in accordance with established program criteria and procedures.

Affected Public: Individuals and households.

Estimated Total Annual Burden Hours: 10,200 hours.

Information collection request | Number of respondents | Frequency of response | Time per response | Annual burden hours
MRA Financial Certification | 2550 | 1 | 120 minutes | 5100
MRA Certification of Household Income | 2550 | 1 | 60 minutes | 2550
MRA Request for Additional Assistance | 2550 | 1 | 30 minutes | 1275
MRA Notice of Delinquency | 2550 | 1 | 30 minutes | 1275
Total | 2,550 | 1 | Avg. 1 hr | 10,200

Estimated Cost: The total estimated annual cost to the applicant is $105, 774.00. The cost is determined by the average hourly rate of $10.37 (average wage plus the price of a stamp) times the 10,200 estimated annual burden hours.

Comments: Written comments are solicited to (a) evaluate whether the proposed data collection is necessary for the proper performance of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Submit comments to OMB within 30-days of the publication date of this notice. To ensure that FEMA is fully aware of any comments or concerns that you share with OMB, please provide us with a copy of your comments. FEMA will continue to accept comments for 60 days from the date of this notice.

OMB Addressee: Interested persons should submit written comments to the Office of Management and Budget, Office of Information and Regulatory Affairs, Attention: Desk Officer for the Federal Emergency Management Agency, 725 17th Street, NW., Washington, DC 20503.

FEMA Addressee: Submit written comments to Muriel B. Anderson, Chief, Records Management Section, Program Services and System Branch, Facilities Management and Services Division, Administration and Resource Planning Directorate, Federal Emergency Management Agency, 500 C Street, SW., Room 316, Washington, DC 20472 or via e-mail at InformationCollections@fema.gov.

FOR FURTHER INFORMATION CONTACT: Contact David Porter, Programs Specialist, Community and Family Services Branch, Recovery Division, Readiness, Response and Recovery Directorate, Federal Emergency Management Agency, at telephone number (202) 646-3939 for additional information. You may contact Ms. Anderson for copies of the proposed collection of information at telephone number (202) 646-2625, FAX number (202) 646-3347, or email address: InformationCollections@fema.gov.

Dated: August 6, 2002.
Reginald Trujillo,
Branch Chief, Program Services and Systems Branch, Facilities Management and Services Division, Administration and Resource Planning Directorate.

[FR Doc. 02-20961 Filed 8-21-02; 8:45 am]

BILLING CODE 6718-01-M